NUCLEAR REGULATORY COMMISSION

[Docket No. 72-17; NRC-2020-0238]

Portland General Electric Company; Trojan Independent Spent Fuel Storage Installation

AGENCY: Nuclear Regulatory Commission.

ACTION: Environmental assessment and finding of no significant impact; issuance.

SUMMARY: The U.S. Nuclear Regulatory Commission (NRC) is considering an amendment request from Portland General Electric Company (PGE) to amend License No. SNM-2509 for the Trojan Independent Spent Fuel Storage Installation (ISFSI), located in Columbia County, Oregon. The amendment would revise the safety analysis report (SAR) description of the licensee's evaluation of explosion accident events. As part of its review, the NRC performed an environmental assessment (EA) of the proposed action. The NRC concluded that the proposed action would have no significant environmental impact. Accordingly, the NRC staff is issuing a finding of no significant impact (FONSI) associated with the proposed amendment.

DATES: The EA and FONSI referenced in this document became available on November 16, 2020.

ADDRESSES: Please refer to Docket ID NRC-2020-0238 when contacting the NRC about the availability of information regarding this document. You may obtain publicly available information related to this document using any of the following methods:

• Federal Rulemaking Website: Go to https://www.regulations.gov/ and search for Docket ID NRC-2020-0238. Address questions about Docket IDs to Jennifer Borges; telephone: 301-287-9127; email: Jennifer.Borges@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• Attention: The PDR, where you may examine and order copies of public documents is currently closed. You may submit your request to the PDR via email at PDR.Resource@nrc.gov or call 1-800-397-4209 between 8:00 a.m. and 4:00 p.m. (EST), Monday through Friday, except Federal holidays.

FOR FURTHER INFORMATION CONTACT: Chris Allen, Office of Nuclear Material Safety and Safeguards, U.S. Nuclear Regulatory Commission, Washington, DC 20555; telephone: 301-415-6877; email: William.Allen@nrc.gov.

SUPPLEMENTARY INFORMATION:

I. Introduction

In August 2012, the U.S. Army Corps of Engineers installed an anchor buoy for a new Prescott Anchorage Area on the Columbia River just outside the Trojan ISFSI Controlled Area Boundary. During a 2015 inspection, an NRC inspector questioned if the supporting analyses for Trojan Final Safety Analysis Report (FSAR) Sections 2.2.3.1 “Explosions” and Section 8.2.8 “Explosions of Chemicals, Flammable Gasses, and Munitions” remained bounding due to the new anchorage. To address this issue, PGE reviewed the Trojan FSAR explosion event evaluation description, and concluded that certain statements pertaining to the deterministic evaluation of the design basis explosion event could not be confirmed. Therefore, PGE commissioned a comprehensive new evaluation of potential impacts on the Trojan ISFSI due to explosion events from both rail and waterborne vessel traffic. The evaluation also accounted for waterborne vessels periodically moored at the new Prescott Anchorage Area.

PGE submitted a license amendment application to update the Trojan FSAR evaluation of explosion accident events originating from cargo transported by rail and waterborne vessels that could potentially affect the ISFSI and requested NRC approval of the subject FSAR change. The NRC is reviewing the amendment request from PGE dated March 10, 2020 (ADAMS Package Accession No. ML20083G798).

II. Environmental Assessment Summary

Under the requirements of sections 51.21 and 51.30(a) of title10 of the Code of Federal Regulations (10 CFR), the NRC staff developed an EA (ADAMS Accession No. ML20287A234) to evaluate the proposed action, which is for the NRC to approve the PGE amendment request to revise the SAR description of the licensee's evaluation of explosion accident events.

The EA defines the NRC's proposed action (i.e., to approve the amendment request) as well as the purpose of and the need for the proposed action. The EA evaluates the potential environmental impacts of approving the amendment to update the Trojan FSAR evaluation of explosion accident events originating from cargo transported by rail and waterborne vessels that could potentially affect the ISFSI. The EA also provides the NRC's conclusion.

The NRC staff finds that the environmental effects from this amendment request are bounded by the environmental impacts discussed in the June 26, 2019 EA for renewal of the Trojan ISFSI license. That EA found that continued operation of the Trojan ISFSI for an additional 40 years will not significantly affect the quality of the environment (ML19058A264). The NRC staff finds that the environmental impacts from PGE's amendment request are bounded by the previous EA for the following reasons. First, PGE's requested amendment involves no changes to the ISFSI design or operation. Second, the SAR revision is limited to adding a more comprehensive evaluation of offsite explosion events. Third, the evaluation results remain the same. The new evaluation concludes, consistent with the prior evaluation, that offsite explosions would not have radiological consequences.

Because the evaluation results, the ISFSI design, and the ISFSI operation remain unchanged, the proposed action does not change the types or quantities of effluents that may be released offsite, and it does not increase occupational or public radiation exposure. Therefore, there are no significant radiological environmental impacts associated with the proposed action. There is no change to non-radiological effluents because the proposed action only requires revising the FSAR and does not have other environmental impacts. Thus, the proposed action will not have a significant effect on the quality of the human environment and the environmental impacts of the proposed action are no greater than those described in the EA for renewal of SNM-2509.

Agencies and Persons Consulted

The NRC provided the Oregon Health Authority a draft copy of the EA for review in an email dated August 27, 2020 (ADAMS Accession No. ML20244A153). The NRC staff has determined that this amendment would have no impact on historic and cultural resources or ecological resources. Consequently, no consultations are necessary under Section 106 of the National Historic Preservation Act or Section 7 of the Endangered Species Act.

III. Finding of No Significant Impact

Based on its review of the proposed action in the EA, in accordance with the requirements in 10 CFR part 51, the NRC staff has concluded that the proposed action, approval of the requested amendment, will not significantly impact the quality of the human environment, as the environmental impacts are bounded by the previous EA for renewal of SNM-2509.

Therefore, the NRC finds that there are no significant environmental impacts from the proposed action, and that preparation of an environmental impact statement is not warranted. Accordingly, the NRC has determined that a FONSI is appropriate.

Dated: November 12, 2020.
For the Nuclear Regulatory Commission.
John B. McKirgan,
Chief, Storage and Transportation Licensing Branch, Division of Fuel Management, Office of Nuclear Material Safety and Safeguards.

[FR Doc. 2020-25297 Filed 11-16-20; 8:45 am]

BILLING CODE 7590-01-P